DEPARTMENT OF TRANSPORTATION

Federal Aviation Administration

Notice of Intent To Rule on Passenger Facility Charge (PFC) Application 11-11-C-00-BUR, To Impose and Use PFC Revenue at Bob Hope Airport, Burbank, CA

AGENCY: Federal Aviation Administration (FAA), DOT.

ACTION: Notice of Intent to Rule on Application.

SUMMARY: The FAA proposes to rule and invites public comment on the application to impose and use PFC revenue at Bob Hope Airport, under the provisions of the Aviation Safety and Capacity Expansion Act of 1990 (Title IX of the Omnibus Budget Reconciliation Act of 1990, Public Law 101-508) and Part 158 of the Federal Aviation Regulations (14 CFR part 158).

DATES: Comments must be received on or before April 25, 2011.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. John T. Hatanaka, Senior Deputy Executive Director, Burbank-Glendale-Pasadena Airport Authority, at the following address: 2627 Hollywood Way, Burbank, CA 91505. Air carriers and foreign air carriers may submit copies of written comments previously provided to Burbank-Glendale-Pasadena Airport Authority under section 158.23 of Part 158.

FOR FURTHER INFORMATION CONTACT: Darlene Williams, Airport Planner/PFC Specialist, Los Angeles Airports District Office, 15000 Aviation Blvd., Room 3000, Lawndale, CA 90261, Telephone: (310) 725-3625. The application may be reviewed in person at this same location.

SUPPLEMENTARY INFORMATION: The FAA proposes to rule and invites public comment on the application to impose and use PFC revenue at Bob Hope Airport under the provisions of 49 U.S.C. 40117 and Part 158 of the Federal Aviation Regulations (14 CFR Part 158). On March 9, 2011, the FAA determined that the application to impose and use PFC submitted by Burbank-Glendale-Pasadena Airport Authority was substantially complete within the requirements of section 158.25 of Part 158. The FAA will approve or disapprove the application, in whole or in part, no later than June 7, 2011.

The following is a brief overview of the impose and use application No. 11-11-C-00-BUR:

Proposed charge effective date: April 1, 2016.

Proposed charge expiration date: October 1, 2020.

Level of the proposed PFC: $3.00.

Total estimated PFC revenue: $35,000,000.

Description of Proposed Impose and Use Project

Regional Intermodal Transportation Center (RITC)—Phase 1. This project will construct a transportation access center and related improvements on a six-acre portion of the parking lot in the southeastern area of the airport. The first phase of the project will include approximately 1,475 feet of an elevated walkway between the RITC and the terminal complex; a multi-level transit station that will include consolidated rental car facilities and bus pickup and drop off facility; approximately 55,000 square feet of ground access center for shuttle operators and off-airport hotel vans; pedestrian crosswalk across Empire Avenue to connect the train station with the RITC; and two-level parking structure.

Class or Classes of Air Carriers Which the Public Agency Has Requested Not be Required to Collect PFCS: Nonscheduled/on demand air carriers, filing FAA Form 1800-31.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at Burbank-Glendale-Pasadena Airport Authority.

Issued in Lawndale, California, on March 16, 2011.
Mark A. McClardy,
Manager, Airports Division, Western-Pacific Region.

[FR Doc. 2011-7062 Filed 3-24-11; 8:45 am]

BILLING CODE 4910-13-P